DEPARTMENT OF ENERGY

Federal Energy Regulatory Commission

Combined Notice of Filings #1

Take notice that the Commission received the following electric corporate filings:

Docket Numbers: EC21-22-000.

Applicants: Basin Electric Power Cooperative, Inc.

Description: Application for Authorization Under Section 203 of the Federal Power Act, et al. of Basin Electric Power Cooperative.

Filed Date: 11/17/20.

Accession Number: 20201117-5179.

Comments Due: 5 p.m. ET 12/8/20.

Docket Numbers: EC21-23-000.

Applicants: NV Energy, Inc., DesertLink, LLC.

Description: Joint Application for Authorization Under Section 203 of the Federal Power Act, et al. of NV Energy, Inc., et al.

Filed Date: 11/17/20.

Accession Number: 20201117-5205.

Comments Due: 5 p.m. ET 12/8/20.

Take notice that the Commission received the following electric rate filings:

Docket Numbers: ER10-2895-021; ER10-2460-017; ER10-2461-018; ER10-2463-017; ER10-2466-018; ER10-2917-021; ER10-2918-022; ER10-2920-021; ER10-2921-021; ER10-2922-021; ER10-2966-021; ER10-3167-013; ER11-2201-021; ER11-2383-016; ER11-3941-019; ER11-3942-023; ER11-4029-017; ER12-1311-017; ER12-161-021; ER12-2068-017; ER12-682-018; ER13-1613-014; ER13-17-015; ER13-203-013; ER13-2143-014; ER14-1964-012; ER16-287-007; ER17-482-006; ER19-1074-005; ER19-1075-005; ER19-529-005; ER20-1447-002.

Applicants: Bear Swamp Power Company LLC, BIF II Safe Harbor Holdings, LLC, BIF III Holtwood LLC, Black Bear SO, LLC, Black Bear Development Holdings, LLC, Black Bear Hydro Partners, LLC, BREG Aggregator LLC, Brookfield Energy Marketing Inc., Brookfield Energy Marketing LP, Brookfield Energy Marketing US LLC, Brookfield Power Piney & Deep Creek LLC, Brookfield Renewable Energy Marketing US LLC, Brookfield Renewable Trading and Marketing LP, Brookfield White Pine Hydro LLC, Carr Street Generating Station, L.P., Erie Boulevard Hydropower, L.P., Granite Reliable Power, LLC, Great Lakes Hydro America, LLC, Hawks Nest Hydro LLC, Rumford Falls Hydro LLC, Safe Harbor Water Power Corporation, Bishop Hill Energy, LLC, Blue Sky East, LLC, Canandaigua Power Partners, LLC, Canandaigua Power Partners II, LLC, Erie Wind, LLC, Evergreen Wind Power, LLC, Evergreen Wind Power III, LLC, Niagara Wind Power, LLC, Stetson Holdings, LLC, Stetson Wind II, LLC, Vermont Wind, LLC.

Description: Supplement to June 30, 2020 Updated Market Power Analysis for the Northeast Region of the Brookfield Companies and Terra Form Companies.

Filed Date: 11/17/20.

Accession Number: 20201117-5187.

Comments Due: 5 p.m. ET 12/8/20.

Docket Numbers: ER14-2080-002; ER15-1136-003; ER15-502-003.

Applicants: Midcontinent Independent System Operator, Inc.

Description: Midcontinent Independent System Operator, Inc. submits tariff filing per 35.19a(b): Refund Report_Louisiana Generating, Bayou Cove and Big Cajun I to be effective N/A.

Filed Date: 11/17/20.

Accession Number: 20201117-5180.

Comments Due: 5 p.m. ET 12/8/20.

Docket Numbers: ER19-1507-007.

Applicants: Duke Energy Florida, LLC, Duke Energy Progress, LLC, Duke Energy Carolinas, LLC.

Description: Compliance filing: Joint OATT Compliance Filing—Order 845 (Technological) to be effective 5/22/2019.

Filed Date: 11/17/20.

Accession Number: 20201117-5060.

Comments Due: 5 p.m. ET 12/8/20.

Docket Numbers: ER20-2750-000.

Applicants: PacifiCorp.

Description: Report Filing: UAMPS TSOA Rev 5 Refund Report to be effective N/A.

Filed Date: 11/18/20.

Accession Number: 20201118-5043.

Comments Due: 5 p.m. ET 12/9/20.

Docket Numbers: ER20-2802-000.

Applicants: PacifiCorp.

Description: Report Filing: Deseret TSOA Rev 7 Refund Report to be effective N/A.

Filed Date: 11/18/20.

Accession Number: 20201118-5041.

Comments Due: 5 p.m. ET 12/9/20.

Docket Numbers: ER21-427-000.

Applicants: PJM Interconnection, L.L.C.

Description: Tariff Cancellation: Cancel ISA SA #4792; Q# AB2-038/AB2-041; ICSA SA #4793; Q# U3-073/Z2-013/AB2-041 to be effective 12/21/2020.

Filed Date: 11/17/20.

Accession Number: 20201117-5052.

Comments Due: 5 p.m. ET 12/8/20.

Docket Numbers: ER21-428-000.

Applicants: PJM Interconnection, L.L.C.

Description: § 205(d) Rate Filing: Revisions to the OA, section 18.17 re DIMA to be effective 2/1/2021.

Filed Date: 11/17/20.

Accession Number: 20201117-5069.

Comments Due: 5 p.m. ET 12/8/20.

Docket Numbers: ER21-429-000.

Applicants: PJM Interconnection, L.L.C.

Description: § 205(d) Rate Filing: Third Revised ISA, Service Agreement No. 4109; Queue No. AD1-067 to be effective 10/19/2020.

Filed Date: 11/18/20.

Accession Number: 20201118-5006.

Comments Due: 5 p.m. ET 12/9/20.

Docket Numbers: ER21-430-000.

Applicants: PJM Interconnection, L.L.C.

Description: § 205(d) Rate Filing: Original ISA, SA No. 5833; Queue No. AC1-110/AD1-131 to be effective 10/20/2020.

Filed Date: 11/18/20.

Accession Number: 20201118-5026.

Comments Due: 5 p.m. ET 12/9/20.

Docket Numbers: ER21-431-000.

Applicants: American Electric Power Service Corporation, Ohio Power Company, AEP Ohio Transmission Company, Inc., PJM Interconnection, L.L.C.

Description: Compliance filing: AEP submits Compliance filing in ER20-2794 to be effective 11/2/2020.

Filed Date: 11/18/20.

Accession Number: 20201118-5032.

Comments Due: 5 p.m. ET 12/9/20.

Docket Numbers: ER21-432-000.

Applicants: ITC Midwest LLC.

Description: § 205(d) Rate Filing: Filing of a Distribution-Transmission Interconnection Agreement to be effective 1/18/2021.

Filed Date: 11/18/20.

Accession Number: 20201118-5044.

Comments Due: 5 p.m. ET 12/9/20.

Docket Numbers: ER21-433-000.

Applicants: Northern Indiana Public Service Company.

Description: MISO Schedule 50 Cost Recovery Filing of Northern Indiana Public Service Company LLC.

Filed Date: 11/17/20.

Accession Number: 20201117-5202.

Comments Due: 5 p.m. ET 12/8/20.

Take notice that the Commission received the following electric securities filings:

Docket Numbers: ES21-2-000.

Applicants: DesertLink, LLC.

Description: Errata to October 9, 2020 Application [Exhibit C, D and E] Under Section 204 of the Federal Power Act for Authorization to Issue Securities of DesertLink, LLC.

Filed Date: 11/12/20.

Accession Number: 20201112-5340.

Comments Due: 5 p.m. ET 12/3/20.

Docket Numbers: ES21-4-000.

Applicants: Silver Run Electric, LLC.

Description: Errata to October 9, 2020 Application [Exhibit C, D and E] Under Section 204 of the Federal Power Act for Authorization to Issue Securities of Silver Run Electric, LLC.

Filed Date: 11/12/20.

Accession Number: 20201112-5342.

Comments Due: 5 p.m. ET 12/3/20.

Take notice that the Commission received the following public utility holding company filings:

Docket Numbers: PH21-4-000.

Applicants: LS Power Development, LLC.

Description: LS Power Development, LLC submits FERC-65-B Notice of Change in Fact to Waiver Notification.

Filed Date: 11/17/20.

Accession Number: 20201117-5178.

Comments Due: 5 p.m. ET 12/8/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 18, 2020
Nathaniel J. Davis, Sr.,
Deputy Secretary.

[FR Doc. 2020-25922 Filed 11-23-20; 8:45 am]

BILLING CODE 6717-01-P